DEPARTMENT OF COMMERCE

International Trade Administration

[A-570-053, C-570-054]

Certain Aluminum Foil From the People's Republic of China: Extension of Deadline To Certify Certain Entries

AGENCY: Enforcement and Compliance, International Trade Administration, Department of Commerce.

SUMMARY: On March 22, 2023, the U.S. Department of Commerce (Commerce) published in the Federal Register a notice of preliminary affirmative circumvention determinations with respect to the Republic of Korea (Korea) and Kingdom of Thailand (Thailand), concerning the antidumping duty (AD) and countervailing duty (CVD) orders on certain aluminum foil from the People's Republic of China (China) (Preliminary Determinations). On March 28, 2023, Commerce published a correction to the Preliminary Determinations. This notice informs parties that Commerce has extended the deadline for certain exporters and importers to certify entries of certain aluminum foil exported from Korea and Thailand that were entered, or withdrawn from warehouse, for consumption on or after July 18, 2022, through March 22, 2023.

DATES: Applicable May 3, 2023.

FOR FURTHER INFORMATION CONTACT: Michael J. Heaney or Mark Flessner, Office VI, Enforcement and Compliance, International Trade Administration, U.S. Department of Commerce, 1401 Constitution Avenue NW, Washington, DC 20230; telephone: (202) 482-4475 and (202) 482-6312, respectively.

SUPPLEMENTARY INFORMATION:

Background

In the Preliminary Determinations, Commerce established a certification program and a deadline for certain exporters and importers to certify that entries of certain aluminum foil exported from Korea or Thailand that were entered, or withdrawn from warehouse, for consumption on or after July 18, 2022 (the date of initiation of these circumvention inquiries), through the date of publication of the Preliminary Determinations (i.e., March 22, 2023), are not subject to the suspension of liquidation or the collection of cash deposits based on the inputs used to manufacture such merchandise.¹ The original deadline for exporters and importers to complete these certifications was 45 days after the publication of the Preliminary Determinations, i.e., May 6, 2023. On March 28, 2023, Commerce published the Preliminary Correction in the Federal Register.² On May 3, 2023, Commerce issued a memorandum via Enforcement and Compliance's Antidumping and Countervailing Duty Centralized Electronic Service System (i.e., ACCESS) notifying interested parties that Commerce was extending the deadline to submit certifications for entries of certain aluminum foil exported from Korea or Thailand that was entered, or withdrawn from warehouse, for consumption on or after July 18, 2022, through March 22, 2023, by 75 days, for a total of 120 days after the date of publication of the Preliminary Determinations.³

¹ See Antidumping and Countervailing Duty Orders on Certain Aluminum Foil from the People's Republic of China: Preliminary Affirmative Determinations of Circumvention with Respect to the Republic of Korea and the Kingdom of Thailand, 88 FR 17177 (March 22, 2023) (Preliminary Determinations).

² See Antidumping and Countervailing Duty Orders on Certain Aluminum Foil from the People's Republic of China: Preliminary Affirmative Determinations of Circumvention With Respect to the Republic of Korea and the Kingdom of Thailand; Correction, 88 FR 18297 (March 28, 2023) (Preliminary Correction). The Preliminary Correction identified the proper AD and CVD cash deposit rates, which the Preliminary Determinations had misstated.

³ See Memorandum, “Circumvention Inquiries on Aluminum Foil from the People's Republic of China—Republic of Korea and Kingdom of Thailand: Extension of Deadline to Certify Certain Entries of Aluminum Foil,” dated May 3, 2023. This memorandum inadvertently stated the relevant entry date as July 17, 2022; however, July 18, 2022 is the correct date.

Extension

With this notice, we notify the public that, for all aluminum foil from Korea and Thailand that was entered, or withdrawn from warehouse, for consumption during the period July 18, 2022 (the date of initiation of these circumvention inquiries), through March 22, 2023 (the date of publication of the Preliminary Determinations in the Federal Register), where the entry has not been liquidated (and entries for which liquidation has not become final), the relevant certification should be completed and signed as soon as practicable, but not later than 120 days after the date of publication of the Preliminary Determinations in the Federal Register, i.e., no later than July 20, 2023. For such entries, importers, and exporters each have the option to complete a blanket certification covering multiple entries, individual certifications for each entry, or a combination thereof. The exporter must provide the importer with a copy of the exporter certification within 120 days of the date of publication of the Preliminary Determinations in the Federal Register.

On June 15, 2023, Commerce posted instructions to U.S. Customs and Border Protection (CBP) notifying CBP of the extended deadline.⁴ We note that Sankyu Thai Co., Ltd., the single company which Commerce precluded from participating in this certification program in the Preliminary Determinations, is still precluded from participating in the certification program we established for applicable exports of aluminum foil from Thailand.⁵

⁴ See Message 3166406 dated June 15, 2023 (barcode 4389519) (Korea), and Message 3166405 dated June 15, 2023 (barcode 4389521) (Thailand).

⁵ See Preliminary Determinations, 88 FR at 17177-78.

Notification to Interested Parties

This notice is issued and published in accordance with sections 781(b) of the Tariff Act of 1930, as amended and 19 CFR 351.225(f) and (h).

Dated: June 21, 2023.
James Maeder,
Deputy Assistant Secretary for Antidumping and Countervailing Operations.

[FR Doc. 2023-13575 Filed 6-26-23; 8:45 am]

BILLING CODE 3510-DS-P